LEGAL SERVICES CORPORATION

Sunshine Act Meetings; Notice

DATE AND TIME: The Legal Services Corporation Board of Directors and its five committees will meet on July 20-21, 2011. On Wednesday, July 20, the first meeting will commence at 1:15 p.m., Pacific Daylight Time. On Thursday, July 21, the first meeting will commence at 10:45 a.m., Pacific Daylight Time. On each of these two days, each meeting other than the first meeting of the day will commence promptly upon adjournment of the immediately preceding meeting. Please note that on Wednesday, July 20, meetings of the Finance Committee and Audit Committee will run concurrently after the meeting of the Promotion & Provision Committee.

LOCATION: Davis Wright Tremaine, LLP, 1201 Third Avenue, Suite 2200, Seattle, Washington 98101.

PUBLIC OBSERVATION: Unless otherwise noted herein, the Board and all committee meetings will be open to public observation. Members of the public who are unable to attend but wish to listen to the public proceedings may do so by following the telephone call-in directions provided below but are asked to keep their telephones muted to eliminate background noises. From time to time the presiding Chair may solicit comments from the public.

CALL-IN DIRECTIONS FOR OPEN SESSIONS: • Call toll-free number: 1-866-451-4981;

• When prompted, enter the following numeric pass code: 5907707348 (or 2755431953 to access the Audit Committee meeting on July 20, 2011);

• When connected to the call, please immediately “mute” your telephone.

Meeting Schedule:

Wednesday, July 20, 2011

Time* : 1:15 p.m.

* Please note that all times in this notice are in the Pacific Daylight Time.

** The Finance Committee meeting will run concurrently with the Audit Committee meeting upon conclusion of the Promotion & Provision Committee meeting.

1. Promotion & Provision for the Delivery of Legal Services Committee

2. Finance Committee**

3. Audit Committee**

4. Operations & Regulations Committee

5. Development Committee

Thursday, July 21, 2011

Time: 10:45 a.m.

1. Board of Directors

STATUS OF MEETING: Open, except as noted below.

Board of Directors—Open, except that a portion of the meeting of the Board of Directors may be closed to the public pursuant to a vote of the Board of Directors to hear briefings from management and LSC's Inspector General, and to consider and act on the General Counsel's report on potential and pending litigation involving LSC.***

*** Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(10), and the corresponding provisions of the Legal Services Corporation's implementing regulation, 45 CFR 1622.5(h), will not be available for public inspection. A copy of the General Counsel's Certification that in his opinion the closing is authorized by law will be available upon request.

MATTERS TO BE CONSIDERED: Wednesday, July 20, 2011

Promotion & Provision for the Delivery of Legal Services Committee

Agenda

1. Approval of agenda.

2. Approval of minutes of the Committee's meeting of April 15, 2011.

3. Presentation on client board members.

• Reggie Haley, Office of Program Performance.

• Latryna Carlton, Florida Rural Legal Services.

• Richard Harrison, Northwest Justice Project.

• Jennifer Sommer, Indiana Legal Services.

• Rosita Stanley, National Legal Aid & Defender Association.

4. Public comment.

5. Consider and act on other business.

6. Consider and act on adjournment of meeting.

Finance Committee

Agenda

1. Approval of agenda.

2. Approval of the minutes of the Committee's meeting of April 15, 2011.

3. Approval of the minutes of the Committee's meeting of June 16, 2011.

4. Presentation on LSC's Financial Reports for the first eight months of FY 2011.

• David Richardson, Treasurer/Comptroller.

5. Consider and act on revisions to the Consolidated Operating Budget for FY 2011 including internal budgetary adjustments and recommendation of Resolution 2011-XXX to the Board.

• David Richardson, Treasurer/Comptroller.

6. Consider and act on the recommendation to the Board on a Temporary Operating Budget for FY 2012.

• David Richardson, Treasurer/Comptroller.

7. Discussion of FY 2013 Budget Request.

8. Consider and act on amendment to LSC's 403(b) plan.

• Alice Dickerson, Director, Office of Human Resources.

9. Public comment.

10. Consider and act on other business.

11. Consider and act on adjournment of meeting.

Audit Committee

Agenda

1. Approval of agenda.

2. Approval of minutes of the Committee's meeting of April 15, 2011.

3. Report on 403(b) annual plan review and update on annual audit.

• Alice Dickerson, Director, Office of Human Resources.

4. Consider and act on revised Audit Committee charter.

• Mattie Cohan, Office of Legal Affairs.

• Ronald Merryman, Office of the Inspector General.

5. Briefing by the Office of Inspector General.

• Jeffrey Schanz, Inspector General.

6. Briefing on Oversight of Grantee Compliance.

• Lora Rath, Acting Director, Office of Compliance and Enforcement.

7. Public comment.

8. Consider and act on other business.

9. Consider and act on adjournment of meeting.

Operations & Regulations Committee

Agenda

1. Approval of agenda.

2. Approval of minutes of the Committee's meeting of April 15, 2011.

3. Consider and act on 2010 census and formula distribution issues.

• Bristow Hardin, Office of Program Performance.

• John Constance, Director, Office of Government Relations and Public Affairs.

4. Consider and act on potential initiation of rulemaking on enforcement mechanisms and sanctions.

• Mattie Cohan, Office of Legal Affairs.

• Laurie Tarantowicz, Office of the Inspector General.

5. Public comment.

6. Consider and act on other business.

7. Consider and act on adjournment of meeting.

Development Committee

Agenda

1. Approval of agenda.

2. Approval of minutes of the Committee's meeting of April 15, 2011.

3. Report on status of search for a Development Consultant.

• Atitaya Pratoomtong, Office of Legal Affairs.

4. Consider and act on fundraising plan for the remainder of FY 2011.

5. Public comment.

6. Consider and act on other business.

7. Consider and act on adjournment of meeting.

Thursday, July 21, 2011

Board of Directors

Agenda

Open Session

1. Pledge of Allegiance.

2. Approval of agenda.

3. Approval of Minutes of the Board's Open Session meeting of April 16, 2011.

4. Approval of Minutes of the Board's Open Session meeting of May 17, 2011.

5. Chairman's Report.

6. Members' Reports.

7. President's Report.

8. Inspector General's Report.

9. Consider and act on the report of the Promotion & Provision for the Delivery of Legal Services Committee.

10. Consider and act on the report of the Finance Committee.

11. Consider and act on the report of the Audit Committee.

12. Consider and act on the report of the Operations & Regulations Committee.

13. Consider and act on the report of the Development Committee.

14. Public comment.

15. Consider and act on other business.

16. Consider and act on whether to authorize an executive session of the Board to address items listed below, under Closed Session.

Closed Session

17. Approval of Minutes of the Board's Closed Session meeting of April 16, 2011.

18. Briefing by Management.

19. Briefing by the Office of the Inspector General.

20. Consider and act on General Counsel's report on potential and pending litigation involving LSC.

21. Consider and act on adjournment of meeting.

CONTACT PERSON FOR INFORMATION: Katherine Ward, Executive Assistant to the Vice President & General Counsel, at (202) 295-1500. Questions may be sent by electronic mail to FR_NOTICE_QUESTIONS@lsc.gov.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 8, 2011.
Victor M. Fortuno,
Vice President & General Counsel.

[FR Doc. 2011-17688 Filed 7-11-11; 11:15 am]

BILLING CODE 7050-01-P